DEPARTMENT OF DEFENSE

Office of the Secretary

Defense Business Practice Implementation Board; Notice of Advisory Committee Meeting

AGENCY: Department of Defense.

ACTION: Notice.

SUMMARY: The Defense Business Practice Implementation Board (DBB) will meet in open session on July 30, 2003. The mission of the DBB is to advise the Senior Executive Council (SEC) and the Secretary of Defense on effective strategies for implementation of best business practices of interest to the Department of Defense. At this meeting, the Board's Acquisition, Human Resources, Financial Management, and General Management related task groups will deliberate on their findings and proposed recommendations related to tasks assigned earlier this year. Additional task groups may deliberate on proposed recommendations.

DATES: Wednesday, July 30, 2003, 0830 to 1030 hrs.

ADDRESSES: The Pentagon, Washington, DC.

FOR FURTHER INFORMATION CONTACT: The DBB may be contacted at: Defense Business Practice Implementation Board, 1100 Defense Pentagon, Room 2E314, Washington, DC 20301-1100, via E-mail at DBB@osd.pentagon.mil, or via phone at (703) 695-0505.

SUPPLEMENTARY INFORMATION: Members of the public who wish to attend the meeting must contact the Defense Business Practices Implementation Board no later than Wednesday, July 23 for further information about admission as seating is limited. Additionally, those who wish to make oral comments or deliver written comments should also requested to be scheduled, and submit a written text of the comments by Friday, July 18 to allow time for distribution to the Board members prior to the meeting. Individual oral comments will be limited to five minutes, with the total oral comment period not exceeding thirty-minutes.

Dated: July 8, 2003.
Patricia L. Toppings,
Alternate OSD Federal Register Liaison Officer, Department of Defense.

[FR Doc. 03-17778 Filed 7-14-03; 8:45 am]

BILLING CODE 5001-08-M